DEPARTMENT OF TRANSPORTATION

Federal Aviation Administration

14 CFR Part 39

[Docket No. FAA-2005-21735; Directorate Identifier 2005-NE-22-AD; Amendment 39-14189; AD 2005-14-12]

RIN 2120-AA64

Airworthiness Directives; Hartzell Propeller Inc. Models HC-B3TN-2, HC-B3TN-3, HC-B3TN-5, HC-B3MN-3, HC-B4TN-3, HC-B4TN-5, HC-B4MN-5, HC-B4MP-3, HC-B4MP-5, and HC-B5MP-3 Propellers

AGENCY: Federal Aviation Administration (FAA), DOT.

ACTION: Final rule; request for comments.

SUMMARY: The FAA is adopting a new airworthiness directive (AD) for Hartzell Propeller Inc. models HC-B3TN-2, HC-B3TN-3, HC-B3TN-5, HC-B3MN-3, HC-B4TN-3, HC-B4TN-5, HC-B4MN-5, HC-B4MP-3, HC-B4MP-5, and HC-B5MP-3 propellers, installed with propeller mounting bolts, part number (P/N) B-3339. This AD requires initial and repetitive visual inspections and torque checks of certain manufacture lot numbers of propeller mounting bolts, P/N B-3339, and eventual removal from service of those bolts. This AD results from the discovery during routine propeller installation that a bolt from a certain manufacture lot did not properly absorb the installation torque. This AD also results from the discovery that other bolts of the same part number from a different manufacture lot had material surface pitting. We are issuing this AD to prevent propeller attaching bolt failures or improperly secured propellers, which could lead to separation of the propeller from the airplane.

DATES: This AD becomes effective July 29, 2005. The Director of the Federal Register approved the incorporation by reference of certain publications listed in the regulations as of July 29, 2005.

We must receive any comments on this AD by September 12, 2005.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Hartzell Propeller Inc. Technical Publications Department, One Propeller Place, Piqua, OH 45356; telephone (937) 778-4200; fax (937) 778-4391, for the service information referenced in this AD.

FOR FURTHER INFORMATION CONTACT: Tim Smyth, Aerospace Engineer, Chicago Aircraft Certification Office, FAA, Small Airplane Directorate, 2300 East Devon Avenue, Des Plaines, IL 60018; telephone: (847) 294-7132; fax: (847) 294-7834.

SUPPLEMENTARY INFORMATION: Hartzell Propeller Inc. has informed us that recently during routine installation of a steel hub propeller, one of the propeller mounting bolts, P/N B-3339, did not properly absorb the installation torque. The suspect bolt was removed and examined. Hartzell Propeller Inc., found that the bolt does not have the proper material hardness as specified by the propeller type design requirements. That bolt was identified as part of LFC Manufacturing Lot No. 56. Hartzell Propeller Inc., examined their inventory of bolts and found two other Lot No. 56 bolts also below proper material hardness. During this investigation, Hartzell Propeller Inc. also discovered a quantity of bolts, P/N B-3339, from LFC Manufacturing Lot No. 12, with material surface pitting underneath the anti-corrosion coating. These pitted bolts also do not meet the propeller type design requirements. This condition, if not corrected, could result in propeller mounting bolt failures or improperly secured propellers, which could lead to separation of the propeller from the airplane.

Relevant Service Information

We have reviewed and approved the technical contents of Hartzell Propeller Inc. Alert Service Bulletin (ASB) No. HC-ASB-61-279, Revision 2, dated May 6, 2005, that describes procedures to visually inspect, torque check, and replace the affected bolts.

FAA's Determination and Requirements of This AD

The unsafe condition described previously is likely to exist or develop on other Hartzell Propeller Inc. models HC-B3TN-2, HC-B3TN-3, HC-B3TN-5, HC-B3MN-3, HC-B4TN-3, HC-B4TN-5, HC-B4MN-5, HC-B4MP-3, HC-B4MP-5, and HC-B5MP-3 propellers of the same type design, installed with propeller mounting bolts, P/N B-3339. For that reason, we are issuing this AD to prevent propeller mounting bolt failures or improperly secured propellers, which could lead to separation of the propeller from the airplane. This AD requires:

• Initial visual inspection and torque check of all eight mounting flange bolts when P/N B-3339 bolts from LFC manufacturing Lot No. 12 or Lot No. 56 are present, within 50 hours time-in-service (TIS) or 12 months after the effective date of the AD, whichever occurs first; and

• Thereafter, for all airplanes except Aerospatiale (Nord) Model 262(A) airplanes modified by STC SA2369SW, repetitive torque checks on all eight mounting flange bolts when P/N B-3339 bolts from LFC Manufacturing Lot No. 12 or Lot No. 56 are present, within 120 hours TIS since-last-inspection; and

• Thereafter, for Aerospatiale (Nord) Model 262(A) airplanes modified by STC SA2369SW, repetitive torque checks on all eight mounting flange bolts when P/N B-3339 bolts from LFC Manufacturing Lot No. 12 or Lot No. 56 are present, within 100 hours TIS since-last-inspection; and

• If any bolt fails the torque check, replacement of all eight bolts with P/N B-3339 bolts that are not from LFC Manufacturing Lot No. 12 or Lot No. 56, or with FAA-approved equivalent part number bolts.

• As mandatory terminating action to the repetitive visual inspections and torque checks required by this AD, replacement of all P/N B-3339, LFC Manufacturing Lot No. 12 and Lot No. 56 bolts with P/N B-3339 bolts that are not from LFC Manufacturing Lot No. 12 or Lot No. 56, or with FAA-approved equivalent part number bolts, within 12 months after the effective date of this AD.

You must use the service information described previously to perform the visual inspections, torque checks, and bolt replacements required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2005-21735; Directorate Identifier 2005-NE-22-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the Docket Management System (DMS) Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility between 9 a.m. and 5 p.m., Monday through Friday, except Federal holidays. The Docket Management Facility (telephone (800) 647-5227) is located on the plaza level of the Department of Transportation Nassif Building at the street address stated in ADDRESSES. Comments will be available in the AD docket shortly after the facility receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-14-12 Hartzell Propeller Inc.: Amendment 39-14189. Docket No. FAA-2005-21735; Directorate Identifier 2005-NE-22-AD.

Effective Date

(a) This airworthiness directive (AD) becomes effective July 29, 2005.

Affected ADs

(b) None.

Applicability

(c) This AD applies to Hartzell Propeller Inc. models HC-B3TN-2, HC-B3TN-3, HC-B3TN-5, HC-B3MN-3, HC-B4TN-3, HC-B4TN-5, HC-B4MN-5, HC-B4MP-3, HC-B4MP-5, and HC-B5MP-3 propellers installed with propeller mounting bolts, part number (P/N) B-3339. These propellers are installed on, but not limited to, the airplanes listed in the following Table 1:

Table 1.—Airplanes That Propellers Are Installed on, But Not Limited To
ADVANCED AERO & STRUCTURES, INC. 450.
AEROCOMMANDER:
680T, 680V, 681, 690, 690A, 690B, 690C, 695, 695A.
AEROSPATIALE (SOCATA):
TB-31 (Non U.S. type certificated (TC'd) product).
AIR TRACTOR:
AT-300, AT-301, AT-302, AT-400, AT-401, AT-402, AT-402A, AT-402B, AT-501, AT-502, AT-502A, AT-502B, AT-503, AT-503A, AT-602, AT-802.
AMERICAN AVIATION (GRUMMAN):
G-164, G-164B, G-164B-15T, G-164B-34T, G-164D.
AYRES:
S-2R, S-2R-R1340, S-2R-R3S, S-2R-G1, S-2R-G5, S-2R-G6, S-2R-G10, S-2R-T6, S-2R-T11, S-2R-T15, S-2R-T34, S-2R-T-45, S-2R-T65, S-2RHG-T65.
BAE 137.
BEECH (Raytheon):
(D, E)18 (C, S), (T, C)45(G, H, J), and E18S-9700 (with turbine conversions), 100, A100, A100A, B100, 1900C, 200(T), 200C(T), B200(T), B200C(T), 300, 300LW, B300, 65-90, -A90, -A90-1, -A90-2, -A90-4, B90, C90, C90A, E90, F90, H90, 99, 99A, A99, A99A, B99, C99, A36 and A36TC (with turbine conversions), 34C, T34C, T34C-1.
CASA:
C-212-CB, C-212-CC, C-212-CF-CF.
CESSNA:
208, 208A, 208B, 402, 421B, 421C, 425, 441, P210N (with turbine conversions).
DE HAVILLAND DH114.
DE HAVILLAND CANADA:
DHC-2, DHC-2 MKIII, DHC-3, DH6-1, DHC-6-100, DHC-6-200, DHC-6-300.
DORNIER:
128-6, DO228-100, -101, -200, -201, -202, -212.
DOUGLAS DC-3C (with turbine conversions).
EMBRAER:
EMB-110-P1, -P2, EMB-111, EMB-121A1, EMB-312 (Non U.S. TC'd product).
ENAER T-35-TX (Non U.S. TC'd product).
FAIRCHILD AIRCRAFT:
SA226-AT, -T, -TB, -TC.
FAIRCHILD-HILLER (PILATUS) AU-23 (Non U.S. TC'd product).
FLUG & FAHRZEUGWERKE AG AS202/32TP (Non U.S. TC'd product).
FUJI KM-2D (T-5) (Non U.S. TC'd product).
GRUMMAN S-2 (with turbine conversions).
GRUMMAN (GULFSTREAM AERO) G73 (with turbine conversions).
GRUMMAN (MCKINNON) G21E, G (with turbine conversions).
HAFEI AVIATION INDUSTRY CO.
Y12, Y12IV (Non U.S. TC'd product).
HELIO:
HST-550, -550A.
ICA (ROMANIA) IAR-825TP (Non U.S. TC'd product).
ISRAEL AIRCRAFT INDUSTRIES:
101, 101B.
KOREAN AEROSPACE INDUSTRIES KTX-IT (Non U.S. TC'd product).
MAULE:
M-7-420, MX (T)-7-420.
MITSUBISHI:
MU-2B, MU-2B-10, -15, -20, -25, -26, -30, -35, -36, -40, -60, MU-2B-25A, -26A, -35A, -36A.
NORD 262 (FRAKES), and (NORD) Model 262(A) modified by Supplemental Type Certificate (STC) SA2369SW.
NORMAN AEROPLANE:
NA 6, NAC 6-65 (Non U.S. TC'd product).
POLISH AVIATION (MIELEC):
M-28, M-28B.
PACIFIC AEROSPACE FU24(A)-950/-954.
PACIFIC AEROSPACE (FLETCHER):
FU-24 CRESCO 08-600, FU-24 CRESCO 08-750XL.
PIAGGIO P-166 DL3.
PILATUS:
PC-6/A-H2, PC-6/B-H2, PC-6/B1-H2, PC-6/B2-H2, PC-6/B2-H4, PC-6/C-H2, PC-6/C1-H2, PC-7.
PIPER:
PA-31P, PA-31T, PA-31T1, PA-31T2, PA-31T3, PA-42, PA-42-720, PA-42—720R.
PROP JETS INC. 400 (Non U.S. TC'd product).
PZL MIELEC:
M18, M18A, M18B, M27, PZL-106BT, PZL-130TE.
ROCKWELL OV-10.
SCHWEIZER (GRUMMAN) G-164, G-164A and G-164B (with turbine conversions).
SHORT BROTHERS:
SC7 SERIES 3, SD3-30 VARIANT 200, SD3-SHERPA VARIANT 200, SD3-60 VARIANT 200, SD3-60 SHERPA VARIANT 200.
SIAI MARCHETTI (AERMACCHI):
F.260C, F.260D, SM-1019, SF600 CANGURO.
VALMET L-90TP (Non U.S. TC'd product).
VULCANAIR (PARTENAVIA):
AP68TP-300, AP68TP-600.
WALLAROO 605 (Non U.S. TC'd product).
WEATHERLY 620TP.

Unsafe Condition

(d) This AD results from the discovery during routine propeller installation that a bolt from a certain manufacture lot did not properly absorb the installation torque. This AD also results from the discovery that other bolts of the same part number from a different certain manufacture lot had material surface pitting. We are issuing this AD to prevent propeller mounting bolt failures or improperly secured propellers, which could lead to separation of the propeller from the airplane.

Compliance

(e) You are responsible for having the actions required by this AD performed within the compliance times specified unless the actions have already been done.

Visual Inspections and Torque Checks

(f) Perform initial visual inspection and torque check of all eight mounting flange bolts when P/N B-3339 bolts from LFC manufacturing Lot No. 12 or Lot No. 56 are present, within 50 hours time-in-service (TIS) or 12 months after the effective date of the AD, whichever occurs first. For the location of bolt identification marks, see Figure 1 of Hartzell Propeller Inc. Alert Service Bulletin (ASB) No. HC-ASB-61-279, Revision 2, dated May 6, 2005.

(g) Thereafter, for all airplanes except Aerospatiale (Nord) Model 262(A) airplanes modified by STC SA2369SW, perform repetitive torque checks on all eight mounting flange bolts when P/N B-3339 bolts from LFC Manufacturing Lot No. 12 or Lot No. 56 are present, within 120 hours TIS since-last-inspection.

(h) Thereafter, for Aerospatiale (Nord) Model 262(A) airplanes modified by STC SA2369SW, perform repetitive torque checks on all eight mounting flange bolts when P/N B-3339 bolts from LFC Manufacturing Lot No. 12 or Lot No. 56 are present, within 100 hours TIS since-last-inspection.

(i) If any bolt fails the torque check, replace all eight bolts with P/N B-3339 bolts that are not from LFC Manufacturing Lot No. 12 or Lot No. 56, or with FAA-approved equivalent part number bolts.

(j) Perform the actions specified in paragraphs (f), (g), (h), and (i) of this AD, using paragraphs 3.A through 3.B.(5) of the Accomplishment Instructions of Hartzell Propeller Inc. ASB No. HC-ASB-61-279, Revision 2, dated May 6, 2005.

Mandatory Terminating Action

(k) As mandatory terminating action to the repetitive visual inspections and torque checks required by this AD, replace all P/N B-3339, LFC Manufacturing Lot No. 12 and Lot No. 56 bolts with P/N B-3339 bolts that are not from LFC Manufacturing Lot No. 12 or Lot No. 56, or with FAA-approved equivalent part number bolts, within 12 months after the effective date of this AD. Use paragraph 3.C of Accomplishment Instructions of Hartzell Propeller Inc. ASB No. HC-ASB-61-279, Revision 2, dated May 6, 2005, to do the bolt replacement.

Alternative Methods of Compliance

(l) The Manager, Chicago Aircraft Certification Office, has the authority to approve alternative methods of compliance for this AD if requested using the procedures found in 14 CFR 39.19.

Related Information

(m) AD 2004-21-01, Amendment 39-13822 (69 FR 60952) also pertains to the subject of this AD.

Material Incorporated by Reference

(n) You must use Hartzell Propeller Inc. Alert Service Bulletin No. HC-ASB-61-279, and Alert Service Bulletin Appendix No. HC-ASBA-61-279, Revision 2, dated May 6, 2005, to perform the initial and repetitive visual inspections, torque checks, and bolt replacements required by this AD. The Director of the Federal Register approved the incorporation by reference of this service bulletin in accordance with 5 U.S.C. 552(a) and 1 CFR part 51. Contact Hartzell Propeller Inc. Technical Publications Department, One Propeller Place, Piqua, OH 45356; telephone (937) 778-4200; fax (937) 778-4391, for a copy of this service information.

You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal_register/code_of_federal_regulations/ibr_locations.html.

Issued in Burlington, Massachusetts, on July 6, 2005.
Francis A. Favara,
Acting Manager, Engine and Propeller Directorate, Aircraft Certification Service.

[FR Doc. 05-13733 Filed 7-13-05; 8:45 am]

BILLING CODE 4910-13-P